ENVIRONMENTAL PROTECTION AGENCY

[EPA-HQ-OPP-2015-0022; FRL-9926-67]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before June 5, 2015.

ADDRESSES: Submit your comments, identified by docket identification (ID) number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Susan Lewis, Registration Division (RD) (7505P), main telephone number: (703) 305-7090; email address: RDFRNotices@epa.gov. The mailing address for the contact person is: Office of Pesticide Programs, Environmental Protection Agency, 1200 Pennsylvania Ave. NW., Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

1. EPA Registration Number or File Symbol: 100-895, 100-1154, 100-1259, 100-1351, 100-1408, 100-1439. Docket ID number: EPA-HQ-OPP-2015-0221. Applicant: Syngenta Crop Protection, LLC, P.O. Box 18300, Greensboro, NC 27419. Active ingredient: Avermectin. Product type: Insecticide. Proposed Use: Bean, Pineapple, various Tropical Fruits, Green Onion Subgroup 3-07B, Small Fruit Vine Climbing Subgroup 13-07F, Low Growing Berry Subgroup 13-07G, and Pome Fruit Group, Crop group conversions for Fruiting Vegetable Group 8-10 (adding greenhouse tomato), Citrus Group 10-10, Stone Fruit Group 12-12, and Tree Nut Group 14-12. Contact: RD.

2. EPA Registration Numbers: 100-1070, 100-1001. Docket ID Number: EPA-HQ-OPP-2014-0878. Applicant: Syngenta Crop Protection, 410 S. Swing Road, Greensboro, NC 27409. Active ingredient: Fluazifop-p-butyl. Product Type: Herbicide. Proposed Uses: Lettuce (head and leaf), rhubarb, strawberry, green onion, caneberry subgroup 13-07A, bushberry subgroup 13-07B, tuberous and corn subgroup 1D, bulb onion subgroup 3-07A, small fruit vine climbing, except for fuzzy kiwifruit subgroup 13-07F, and grass with regional restrictions. Contact: RD.

3. EPA Registration Number or File Symbol: 1258-1267, 1258-1286, 1258-1249. Docket ID number: EPA-HQ-OPP-2015-0168. Applicant: Lonza 1200 Bluegrass Lakes Parkway Alpharetta, GA 30004. Active ingredient: 1,2-Benzisothiazol-3(2H)-one, 2-butyl-. Product type: Microbiocide. Proposed Use: Metal working fluid in open system. Contact: AD.

4. EPA Registration Number: 100-1281. Docket ID number: EPA-HQ-OPP-2015-0096. Applicant: Syngenta Crop Protection, 410 Swing Road, P.O. Box 18300, Greensboro, NC 27419. Active ingredient: Mandipropamid. Product type: Fungicide. Proposed Use: Non-bearing citrus. Contact: RD.

5. EPA Registration Number or File Symbol: 71512-2 and 71512-3. Docket ID number: EPA-HQ-OPP-2015-0263. Applicant: ISK Biosciences Corporation, 7470 Auburn Road, Suite A, Concord, Ohio 44077. Active ingredient: Cyazofamid. Product type: Fungicide. Proposed Use: Bulb Vegetable Group 3-07, Herb Subgroup 19A, Greenhouse Tomato-foliar; Greenhouse Pepper-soil drench. Contact: RD.

6. EPA Registration Numbers: 264-704 and 264-788. Docket ID number: EPA-HQ-OPP-2014-0590. Applicant: Bayer CropScience, 2 T.W. Alexander Drive, P.O. Box 12014, Research Triangle Park, NC 27709. Active ingredient: Pyrimethanil. Product type: Fungicide. Proposed Uses: Cucumber; Conversion of Pome fruit group 11 (pre-harvest and post-harvest) to Pome fruit group 11-10; Conversion of Stone fruit group 12 to Stone fruit 12-12; Conversion of Lemon to Lemon subgroup 10-10B; and Conversion of Tomato subgroup to Tomato subgroup 8-10A. Contact: RD.

Authority: 7 U.S.C. 136 et seq.

Dated: April 27, 2015.
Susan Lewis,
Director, Registration Division, Office of Pesticide Programs.

[FR Doc. 2015-10483 Filed 5-5-15; 8:45 am]

BILLING CODE 6560-50-P